ENVIRONMENTAL PROTECTION AGENCY

[FRL-6865-1]

Notice of Proposed Administrative Order on Consent Pursuant to the Resource Conservation and Recovery Act

AGENCY: Environmental Protection Agency.

ACTION: Notice; request for public comment.

SUMMARY: In accordance with section 7003(d) of the Resource Conservation and Recovery Act, 42 U.S.C. 9673(d), notice is hereby given of a proposed administrative agreement (“Administrative Order on Consent” or “AOC”) concerning the Charnock methyl tertiary-butyl ether (“MTBE”) Contamination Site (“Site”) located in the State of California with the following parties: Shell Oil Company, Shell Oil Products Company and Equilon Enterprises LLC (“Respondents”). The AOC requires the Respondents to perform the following activities related to the Charnock Sub-Basin MTBE contamination: Conduct an analysis of alternatives and recommend a preferred alternative for interim drinking water replacement; perform an evaluation of interim groundwater restoration measures; and conduct additional regional investigation fieldwork and analysis activities. The Respondents will perform critical data collection and analysis activities over an approximately one year time frame. The AOC provides for stipulated penalties for failure to perform and continuous oversight from the EPA and the California Regional Water Quality Control Board-Los Angeles Region (“the Agencies”), as well as the opportunity for participation by the City of Santa Monica (“the City”) and Southern California Water Company (“SCWC) (collectively “the Impacted Parties”). These activities will facilitate selection by the Agencies of interim water replacement and restoration measures. Respondents will then continue to perform groundwater sampling and analysis and related reporting tasks for approximately one additional year.

For thirty (30) days following the date of publication of this notice, EPA will receive written comments on the AOC. EPA will consider all comments received and may modify or withdraw its consent to the AOC, if comments received disclose facts or considerations which indicate that the proposed AOC is inappropriate, improper, or inadequate. The EPA's response to any comments will be available for public inspection at the Los Angeles Regional Water Quality Control Board, 320 W. 4th Street, Suite 200, Los Angeles, CA, 90013 and at the U.S. Environmental Protection Agency Region 9 located at 75 Hawthorne Street, San Francisco, CA 94105. Commenters may request an opportunity for a public meeting in the affected area in accordance with Section 7003(d) of RCRA, 42 U.S.C. 6973(d).

DATES: Comments must be submitted on or before October 6, 2000.

ADDRESSES: The proposed AOC and additional background information relating to the AOC are available for public inspection at 75 Hawthorne Street, San Francisco, CA 94105, or on the Internet at www.epa.gov/region09/mtbe/charnock. A paper copy of the proposed AOC may be obtained from Steven Linder (WST-8), Project Manager, 75 Hawthorne Street, San Francisco, CA, 94105. Comments should reference the Charnock MTBE Contamination Site, Proposed Administrative Order on Consent and EPA Docket No. 7003-09-2000-0003. Comments should be addressed to Lester Kaufman, Chief, Underground Storage Tanks Program Office, 75 Hawthorne St., San Francisco, CA, 94105.

FOR FURTHER INFORMATION CONTACT: Steven Linder (WST-8), Project Manager, 75 Hawthorne Street, San Francisco, CA, 94105, (415) 744-2036.

SUPPLEMENTARY INFORMATION: In August 1995, the City discovered the gasoline additive MTBE in drinking water supply wells at its Charnock Wellfield, located at 11375 Westminster Avenue, Los Angeles, California. In August 1995, the City's Charnock Wellfield had five operating municipal supply wells which, according to the City, provided approximately 45% of the drinking water for the City's 87,000 residents (1990 U.S. Census) and approximately 200,000 daytime customers. By June 13, 1996, all of the supply wells at the City's Charnock Wellfield were shut down due to the presence of MTBE contamination at the wellfield. In October 1996, following the shutdown of the City's Charnock Wellfield, the SCWC, another water purveyor utilizing the Charnock Sub-Basin, shut down its wellfield in the Sub-Basin, in order to avoid drawing contamination toward the SCWC Wellfield. Prior to this shutdown, SCWC had two operating municipal supply groundwater wells, at 11607 and 11615 Charnock Road, Los Angeles, that provided, according to SCWC, a portion of the drinking water for approximately 10,000 residences and businesses in Culver City. Currently, water from the Charnock Sub-Basin is not being served to the public. The affected water supply wells have been shut down and there is no current exposure.

After the discovery of MTBE in the City's Charnock Wellfield and the shutdown of both of the wellfields in the Charnock Sub-Basin, the City and SCWC began purchasing alternative water supplies from the Metropolitan Water District. EPA, in consultation with the State, determined that a joint State and federal response was necessary to effectively protect human health and the environment from the threat created by MTBE contamination in the Charnock Sub-Basin and at the City's Charnock Wellfield. Beginning in June 1997, the Agencies have required investigations of potential source site facilities in order to locate and remediate the contamination.

Respondents have conducted investigations at their potential source sites and have begun remediation at one of their individual facilities. Respondents have also participated, along with other potentially responsible parties, in investigating the regional extent of contamination in the Sub-Basin, evaluating remedial technology alternatives, and providing water replacement and consultant costs for the Impacted Parties.

On September 22, 1999, the EPA and the Regional Board issued parallel administrative orders with identical scopes of work to Shell Oil Company, Shell Products and Equilon Enterprises, LLC (collectively “the Shell Orders”). (See, EPA Docket No. RCRA 7003-09-99-0007, and Regional Board Cleanup and Abatement Order No. 99-085.) These orders required Respondents to provide the Impacted Parties with Replacement Water beginning January 7, 2000, for a period of 5 years. Respondents are currently providing replacement water pursuant to these orders. On March 9, 2000, the EPA issued a unilateral administrative order for participation and cooperation in water replacement to Chevron U.S.A., Inc., Exxon Mobil Corporation, Atlantic Richfield Corporation (d.b.a. Arco), Conoco, Inc., Kayo Oil Company, Douglas Oil Company of California, Unocal Corporation, Mobil Oil Corporation, Tosco Corporation, Thrifty Oil Company, Best California Gas, Ltd., Kazuho Nishida and HLW Corporation. This order required these parties to participate and cooperate with the parties to the Shell Orders in providing water replacement. (See EPA Docket No. RCRA 7003-09-2000-0002.) The Regional Response activities that are the subject of the proposed AOC are intended to efficiently generate the information and analyses necessary for the Agencies to select appropriate water replacement and regional restoration measures. The AOC is not intended to affect ongoing requirements for investigation and remediation of individual source sites and potential source sites or compliance with any existing administrative order. Nor is the AOC intended to affect any litigation related to the Site or the Charnock Sub-Basin, or to limit any claims or rights under applicable laws that any Impacted Party may have or assert arising from contamination of the Site or the Charnock Sub-Basin.

Keith Takata,
Acting Regional Administrator, Region 9.

[FR Doc. 00-22813 Filed 9-5-00; 8:45 am]

BILLING CODE 6560-50-P